COMMITTEE FOR PURCHASE FROM PEOPLE WHO ARE BLIND OR SEVERELY DISABLED

41 CFR Parts 51-2, 51-3, and 51-5

RIN 3037-AA14

Supporting Competition in the AbilityOne Program; Extension of Comment Period

AGENCY: Committee for Purchase From People Who Are Blind or Severely Disabled.

ACTION: Proposed rule; extension of comment period.

SUMMARY: On March 13, 2023, the Committee for Purchase from People Who Are Blind or Severely Disabled (Committee), operating as the U.S. AbilityOne Commission (Commission), published a proposed rule, Supporting Competition in the AbilityOne Program, with a 60-day comment period ending on May 11, 2023. The Commission has determined that a 30-day extension of the comment period, until June 12, 2023, is appropriate. The Commission is taking this action in response to requests for an extension to allow interested persons additional time to submit comments.

DATES: The comment period for the proposed rule, Supporting Competition in the AbilityOne Program, published March 13, 2023, at 88 FR 15360, is extended. Electronic comments should be received no later than 11:59 p.m. Eastern Time on June 12, 2023.

ADDRESSES: Interested persons may submit comments by using the following method: internet—Federal eRulemaking Portal. Electronic comments may be submitted through https://www.regulations.gov. To locate the proposed rule, use RIN 3037-AA14. Follow the instructions for submitting comments. Please be advised that comments received will be posted without change to https://www.regulations.gov, including any personal information provided.

Accessible Format: On request to the program contact person listed under FOR FURTHER INFORMATION CONTACT, individuals with disabilities can obtain this document in an alternative accessible format.

FOR FURTHER INFORMATION CONTACT: Cassandra Assefa, Regulation and Policy Counsel, by telephone at 202-430-9886 or by email at cassefa@abilityone.gov.

SUPPLEMENTARY INFORMATION: On March 13, 2023, the Commission published a proposed rule, Supporting Competition in the AbilityOne Program. The proposed rule would clarify the Commission's authority to consider different pricing methodologies in establishing the Fair Market Price (FMP) for Procurement List (PL) additions and changes to the FMP; better define the parameters for conducting fair and equitable competitive allocations amongst multiple qualified Nonprofit Agencies (NPAs); and clarify the responsibilities and procedures associated with authorizing and deauthorizing NPA.

The Commission has received requests for an extension of the 60-day comment period. The Commission has considered the requests and is extending the comment period for the proposed rule until June 12, 2023. The Commission believes that this extension allows adequate time for interested persons to submit comments.

Michael R. Jurkowski,
Acting Director, Business Operations.

[FR Doc. 2023-09236 Filed 5-2-23; 8:45 am]

BILLING CODE 6350-01-P